DEPARTMENT OF TRANSPORTATION

Federal Aviation Administration

14 CFR Part 71

[Airspace Docket No. 01-ASO-6]

Amendment of Class D and Class E2 and E4 Airspace; Gainesville, FL

AGENCY: Federal Aviation Administration (FAA), DOT.

ACTION: Final rule.

SUMMARY: This action amends Class D and Class E2 and E4 airspace at Gainesville, FL. As a result of relocating and renaming the Gainesville VORTAC (Airspace Docket 00-ASO-35), the VORTAC's position has been recalculated and final approach courses for the VHR Omni-directional Range (VOR) Standard Instrument Approach Procedures (SIAP) have been changed for the Gainesville Regional Airport, Gainesville, FL. This action amends the lateral limits of the existing Class D and E2 airspace from a 4.3-mile radius to a 4.9-mile radius of the Gainesville Regional Airport. The Class E4 airspace, designated as an extension to a Class D airspace area, will rotate clockwise 12° and amend the extension from the 4.3-mile radius to 7 miles northeast of the VORTAC to an extension from the 4.9-mile radius to 7 miles northeast of the VORTAC

EFFECTIVE DATE: 0901 UTC, November 1, 2001.

FOR FURTHER INFORMATION CONTACT: Walter R. Cochran, Manager, Airspace Branch, Air Traffic Division, Federal Aviation Administration, P.O. Box 20636, Atlanta, Georgia 30320; telephone (404) 305-5627.

SUPPLEMENTARY INFORMATION:

History

On May 29, 2001, the FAA proposed to amend Part 71 of the Federal Aviation Regulations (14 CFR Part 71) by amending Class D and Class E2 and E4 airspace at Gainesville, FL (66 FR 29056). Class D and Class E airspace designations for airspace areas extending upward from the surface of the earth and Class E airspace designations for airspace areas designated as an extension to a Class D airspace area are published in Paragraphs 5000, 6002 and 6004 respectively, of FAA Order 7400.9H, dated September 1, 2000, and effective September 16, 2000, which is incorporated by reference in 14 CFR 71.1. The Class D and Class E airspace designations listed in this document will be published subsequently in the Order.

Interested parties were invited to participate in this rulemaking proceeding by submitting written comments on the proposal to the FAA. No comments objecting to the proposal were received.

The Rule

This amendment to part 71 of the Federal Aviation Regulations (14 CFR Part 71) amends Class D and Class E2 and E4 airspace at Gainesville, FL.

The FAA has determined that this regulation only involves an established body of technical regulations for which frequent and routine amendments are necessary to keep them operationally current. It, therefore, (1) is not a “significant regulatory action” under Executive Order 12866; (2) is not a “significant rule” under DOT Regulatory Policies and Procedures (44 FR 11034; February 26, 1979); and (3) does not warrant preparation of a regulatory evaluation, as the anticipated impact is so minimal. Since this is a routine matter that will only affect air traffic procedures and air navigation, it is certified that this rule will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR Part 71 as follows:

PART 71—DESIGNATION OF CLASS A, CLASS B, CLASS C, CLASS D AND CLASS E AIRSPACE AREAS; AIRWAYS; ROUTES; AND REPORTING POINTS

1. The authority citation for 14 CFR Part 71 continues to read as follows:

Authority: 49 U.S.C. 106(g); 40103, 40113, 40120; EO 10854, 24 FR 9565, 3 CFR, 1959-1963 Comp., p. 389; 14 CFR 11.69.

§ 71.1 [Amended]

2. The incorporation by reference in 14 CFR 71.1 of Federal Aviation Administration Order 700.9H, Airspace Designations and Reporting Points, dated September 1, 2000, and effective September 16, 2000, is amended as follows:

* * * * *

Paragraph 5000 Class D Airspace.

* * * * *

ASO FL D Gainesville, FL [REVISED]

Gainesville Regional Airport, FL

(Lat. 29°41′24″ N, long. 82°16′18″ W)

That airspace extending upward from the surface to and including 2,700 feet MSL within a 4.9-mile radius of the Gainesville Regional Airport. This Class D airspace area is effective during the specific dates and times established in advance by a Notice to Airmen. The effective date and time will thereafter be continuously published in the Airport/Facility Directory.

* * * * *

Paragraph 6002 Class E2 Airspace Designated as Surface Areas.

* * * * *

ASO FL E2 Gainesville, FL [REVISED]

Gainesville Regional Airport, FL

(Lat. 29°41′24″ N, long. 82°16′18″ W)

Within a 4.9-mile radius of the Gainesville Regional Airport. This Class E airspace area is effective during the specific dates and times established in advance by a Notice to Airmen. The effective date and time will thereafter be continously published in the Airport/Facility Directory.

* * * * *

Paragraph 6004 Class E4 Airspace Areas Designated as an Extension to a Class D Airspace Area.

* * * * *

ASO FL E4 Gainesville, FL [REVISED]

Gainesville Regional Airport, FL

(Lat. 29°41′24″ N, long. 82°16′18″ W)

Gators VORTAC

(Lat. 29°41′32″ N, long. 82°16′23″ W)

That airspace extending upward from the surface within 2.4 miles each side of the Gators VORTAC 053° radial, extending from the 4.9-mile radius of Gainesville Regional Airport to 7 miles northeast of the VORTAC. This Class E4 airspace area is effective during the specific dates and times established in advance by a Notice to Airmen. The effective date and time will thereafter be continuously published in the Airport/Facility Directory.

* * * * *

Issued in College Park, Georgia, on July 10, 2001.
Wade T. Carpenter,
Acting Manager, Air Traffic Division, Southern Region.

[FR Doc. 01-18238 Filed 7-20-01; 8:45 am]

BILLING CODE 4910-13-M